DEPARTMENT OF LABOR

Mine Safety and Health Administration

Proposed Extension of Information Collection; Petitions for Modification of Mandatory Safety Standards

[OMB Control No. 1219-0065]

AGENCY: Mine Safety and Health Administration, Labor.

ACTION: Request for public comments.

SUMMARY: The Department of Labor (DOL), as part of its continuing effort to reduce paperwork and respondent burden, conducts a pre-clearance consultation program to provide the general public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection entitled Petitions for Modification of Mandatory Safety Standards.

DATES: All comments must be received on or before December 23, 2024.

ADDRESSES: Comments concerning the information collection requirements of this notice may be sent by any of the methods listed below. Please note that late comments received after the deadline will not be considered.

• Federal E-Rulemaking Portal: https://www.regulations.gov. Follow the on-line instructions for submitting comments for docket number MSHA-2024-0028.

• Mail/Hand Delivery: DOL-MSHA, Office of Standards, Regulations, and Variances, 201 12th Street South, 4th Floor West, Arlington, VA 22202-5452. Before visiting MSHA in person, call 202-693-9455 to make an appointment.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act) as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal mines.

B. Information Collection

In order to fulfill the statutory mandates to promote miners' health and safety, MSHA requires the collection of information under the information collection request entitled Petitions for Modification of Mandatory Safety Standards. The information collection is intended to ensure the merits of the petition for the purpose of deciding whether or not to grant it and, if granted, whether there is a need for any additional terms or conditions.

If a mine operator, or a representative of miners at a mine, wishes to modify the requirements of an existing MSHA safety standard to achieve the purpose of the standard by means different than those required by the standard, they may petition the requirement. The petitioning party would be responsible for proposing an alternative that is proven to be at least as safe for miners as the mandatory requirement. MSHA will grant a petition for modification if the agency determines that the requested alternative provides miners at least the same level of protection as the existing standard. Under 30 CFR part 44, the procedures and rules of practice are set forth to govern petitions for modification of mandatory safety standards filed under section 101(c) of the Mine Act.

1. Prepare and File Petition for Modification

In order to meet the requirements of the petition for modification, mine operators, or representative of the miners, must file the petition with MSHA and serve a copy of the petition to the other party, either the representative of the miners, or the mine operator. The petition must include a statement about the modification, proposed alternative, or that the requirement diminishes the safety of miners at the site and any facts substantiating that the petition is warranted.

Under 30 CFR 44.10, a petition for modification of the application of a mandatory safety standard under section 101(c) of the Mine Act may be filed only by the mine operator of the affected mine or any representative of the miners at such mine. All petitions must be in writing and must be filed with the Director, Office of Standards, Regulations, and Variances. If the petition is filed by a mine operator, a copy of the petition must be served by the mine operator upon a representative of miners at the affected mine. If the petition is filed by a representative of the miners, a copy of the petition must be served by the representative of miners upon the mine operator. Service must be accomplished personally or by registered or certified mail, return receipt requested.

Under 30 CFR 44.11(a), a petition for modification must contain:

(i) The petitioner's name and address;

(ii) The mailing address and mine identification number of the mine or mines affected;

(iii) The mandatory safety standard to which the petition is directed;

(iv) A concise statement of the modification requested and whether the petitioner proposes to establish an alternate method in lieu of the mandatory safety standard, or alleges that application of the standard will result in diminution of safety to the miners affected, or requests relief based on both grounds;

(v) A detailed statement of the facts that show the grounds upon which a modification is claimed or warranted; and,

(vi) Identification of any representative of the miners at the affected mine, if the petitioner is a mine operator.

2. Post Petition for Modification

It is important for all miners to be aware of potential modifications. Under 30 CFR 44.9, a mine operator must, when there is no representative of miners, post a copy of each petition for modification concerning the mine on the mine bulletin board and must maintain the posting until a ruling on the petition becomes final.

3. MSHA Publish Public Notice of Petition for Modification

Based on who initiated the modification, MSHA will notify all applicable parties and publish the modification for public awareness. Under 30 CFR 44.12(a), within 15 days from the filing of a petition for modification, MSHA will give notice of the petition to each known representative of miners or the operator of the affected mine, as appropriate, and shall publish notice of the petition in the Federal Register.

4. MSHA Publishing Final Action Granting Petition for Modification

Final decisions on modifications, including any reasoning, are published so that all stakeholders are aware of the outcome. Under 30 CFR 44.5(a), every final action granting a petition for modification must be published in the Federal Register. Every such final action published must specify the statutory grounds upon which the modification is based and a summary of the facts which warranted the modification.

5. Post Final Action Granting Petition for Modification

The final decision must be made available to miners, once available. Under 30 CFR 44.5(b), every final action or a summary thereof granting a petition for modification must be posted by the operator on the mine bulletin board at the affected mine and remain posted as long as the modification is effective. If a summary of the final action is posted on the mine bulletin board, a copy of the full decision must be kept at the affected mine office and made available to the miners.

The process of preparing, submitting, reviewing, and granting petitions for a petition for modification is:

Step 1: A mine operator, a representative of miners, or a third party prepares and files a petition for modification to MSHA.

Step 2: The mine operator or representative of miners serves petition for modification to the other party.

(a) If the petition is filed by a mine operator, a copy of the petition must be served by the mine operator upon a representative of miners at the affected mine.

(b) If the petition is filed by a representative of the miners, a copy of the petition must be served by the representative of miners upon the mine operator.

Step 3: The mine operator posts a copy of the petition for modification on the mine bulletin board.

Step 4: MSHA conducts an initial review.

Step 5: MSHA publishes a notice of the petition for modification in the Federal Register.

Step 6: MSHA conducts an investigation.

Step 7: MSHA reviews the petition for modification.

Step 8: MSHA takes a final action and determines whether to grant a petition for modification. If granted, MSHA publishes a final action in the Federal Register.

Step 9: The mine operator posts final action granting a petition for modification at the mine bulletin board.

II. Desired Focus of Comments

MSHA is soliciting comments concerning the proposed information collection entitled Petitions for Modification of Mandatory Safety Standards. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 201 12th Street South, 4th Floor West, Arlington, VA 22202-5452. Sign in at the receptionist's desk on the 4th Floor via the West elevator. Before visiting MSHA in person, call 202-693-9455 to make an appointment.

Questions about the information collection requirements may be directed to the person listed in the FOR FURTHER INFORMATION section of this notice.

III. Current Actions

This information collection request concerns provisions for Petitions for Modification of Mandatory Safety Standards. MSHA has updated the data with respect to the number of respondents, responses, time burden, and burden costs supporting this information collection request from the previous information collection request.

Type of Review: Extension, without change, of a currently approved collection.

Agency: Mine Safety and Health Administration.

OMB Number: 1219-0065.

Affected Public: Business or other for-profit.

Number of Annual Respondents: 46.

Frequency: On occasion.

Number of Annual Responses: 164.

Annual Time Burden: 1,501 hours.

Annual Other Burden Costs: $24,830.

Comments submitted in response to this notice will be summarized and included in the request for Office of Management and Budget approval of the proposed information collection request; they will become a matter of public record and be available at https://www.reginfo.gov.

Song-ae Aromie Noe,
Certifying Officer, Mine Safety and Health Administration.

[FR Doc. 2024-24496 Filed 10-22-24; 8:45 am]

BILLING CODE 4510-43-P